DEPARTMENT OF HEALTH AND HUMAN SERVICES

Centers for Disease Control and Prevention

[Docket Number NIOSH-161-A]

Issuance of Final Guidance Publication

AGENCY: National Institute for Occupational Safety and Health (NIOSH) of the Centers for Disease Control and Prevention (CDC), Department of Health and Human Services (HHS).

ACTION: Notice of issuance of final guidance publication.

SUMMARY: The National Institute for Occupational Safety and Health (NIOSH) of the Centers for Disease Control and Prevention (CDC), announces the availability of the following publication: “NIOSH Current Intelligence Bulletin 65: Occupational Exposure to Carbon Nanotubes and Nanofibers” [2013-145].

ADDRESSES: This document may be obtained at the following link: Web site: http://www.cdc.gov/niosh/docs/2013-145/.

FOR FURTHER INFORMATION CONTACT: Charles Geraci, NIOSH, Robert A. Taft Laboratories, MS-C14, 4676 Columbia Parkway, Cincinnati, OH 45226, telephone (513) 533-8339.

Dated: April 25, 2013.
John Howard,
Director, National Institute for Occupational Safety and Health, Centers for Disease Control and Prevention.

[FR Doc. 2013-10244 Filed 4-30-13; 8:45 am]

BILLING CODE 4163-18-P